COMMITTEE FOR PURCHASE FROM PEOPLE WHO ARE BLIND OR SEVERELY DISABLED

Procurement List; Deletions

AGENCY: Committee for Purchase From People Who Are Blind or Severely Disabled.

ACTION: Additions to and deletions from the Procurement List.

SUMMARY: This action deletes product(s) and service(s) to the Procurement List that were furnished by nonprofit agencies employing persons who are blind or have other severe disabilities.

DATES: Date added to and deleted from the Procurement List: June 29, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION:

Deletions

On 4/25/2025 (90 FR 17423), the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s): 7920-01-215-6568—Cloth, Synthetic Shammy, Assorted Colors, 15″ x 15″

Authorized Source of Supply: Industries for the Blind and Visually Impaired, Inc., West Allis, WI

Contracting Activity: STRATEGIC ACQUISITION CENTER, FREDERICKSBURG, VA

Contracting Activity: GSA/FSS GREATER SOUTHWEST ACQUISITI, FORT WORTH, TX

NSN(s)—Product Name(s):

9905-01-661-2140—Flag, Marking, 4″ x 5″, 21″ Staff, Yellow

9905-01-661-2150—Flag, Marking, 4″ x 5″, 21″ Staff, Fluorescent Orange

9905-01-661-2151—Flag, Marking, 4″ x 5″ 21″ Staff, Fluorescent Pink

Authorized Source of Supply: West Texas Lighthouse for the Blind, San Angelo, TX

Contracting Activity: GSA/FSS GREATER SOUTHWEST ACQUISITI, FORT WORTH, TX

NSN(s)—Product Name(s): 8415-01-204-2668—Sleeves, Arm, Radioactive Contaminants Protective, Yellow, Universal

Contracting Activity: DLA TROOP SUPPORT, PHILADELPHIA, PA

NSN(s)—Product Name(s): 1005-00-791-5420—Case, Carrying, M60, Olive

Contracting Activity: DLA LAND AND MARITIME, COLUMBUS, OH

NSN(s)—Product Name(s): 9330-LL-NO1-0397—Sleeve, Protective

Contracting Activity: NAVSUP FLT LOG CTR PUGET SOUND, BREMERTON, WA

NSN(s)—Product Name(s):

8415-01-228-1323—Overalls, Bib, Cold Weather, ECWCS, Army, Brown, XSS

8415-01-228-1324—Overalls, Bib, Cold Weather, ECWCS, Army, Brown, XSL

8415-01-228-1325—Overalls, Bib, Cold Weather, ECWCS, Army, Brown, SSR

8415-01-228-1326—Overalls, Bib, Cold Weather, ECWCS, Army, Brown, SL

8415-01-228-1327—Overalls, Bib, Cold Weather, ECWCS, Army, Brown, MSR

8415-01-228-1328—Overalls, Bib, Cold Weather, ECWCS, Army, Brown, ML

8415-01-228-1329—Overalls, Bib, Cold Weather, ECWCS, Army, Brown, LSR

8415-01-228-1330—Overalls, Bib, Cold Weather, ECWCS, Army, Brown, LL

8415-01-228-1331—Overalls, Bib, Cold Weather, ECWCS, Army, Brown, XLS

8415-01-228-1332—Overalls, Bib, Cold Weather, ECWCS, Army, Brown, XLL

Authorized Source of Supply: ORC Industries, Inc., La Crosse, WI

Authorized Source of Supply: TradeWinds Services, Inc., Merrillville, IN

Authorized Source of Supply: Peckham Vocational Industries, Inc., Lansing, MI

Contracting Activity: DLA TROOP SUPPORT, PHILADELPHIA, PA

NSN(s)—Product Name(s):

8415-00-177-7992—Socks, Extreme Cold Weather 100% Wool, ECWCS, White, Small

8415-00-177-7993—Socks, Extreme Cold Weather 100% Wool, ECWCS, White, Medium

Authorized Source of Supply: Dawn Enterprises, Inc., Blackfoot, ID

Contracting Activity: DLA TROOP SUPPORT, PHILADELPHIA, PA

Service(s)

Service Type: Janitorial/Custodial

Mandatory for: Department of Veteran Affairs, VA Southern Neveda Healthcare System, Pahrump Community Outpatient Clinic, Pahrump, NV

Authorized Source of Supply: Opportunity Village, Las Vegas, NV

Contracting Activity: VETERANS AFFAIRS, DEPARTMENT OF, 262-NETWORK CONTRACT OFFICE 22

Service Type: Janitorial/Custodial

Mandatory for:

VA Data Center (Diablo Site), Las Vegas, NV

VA Outpatient Clinic: East Clinic (La Canada), Las Vegas, NV

VA Outpatient Clinic: Central Clinic (Delta Point), Las Vegas, NV

VA Outpatient Clinic: North Clinic (Nucleus Plaza), Las Vegas, NV

VA Outpatient Clinic: Northwest Clinic, Las Vegas, NV

VA Outpatient Clinic: Southeast Clinic (Ambulatory Procedures), Las Vegas, NV

VA Outpatient Clinic: Southwest Clinic (South Jones), Las Vegas, NV

VA Outpatient Clinic: West Clinic (Rancho/Palomino), Las Vegas, NV

VA Warehouse, 1841 E. Craig Road, Las Vegas, NV

Authorized Source of Supply: Opportunity Village, Las Vegas, NV

Contracting Activity: VETERANS AFFAIRS, DEPARTMENT OF, 262-NETWORK CONTRACT OFFICE 22

Service Type: Laundry Service

Mandatory for: US Marine Corps, Marine Corps Logistics Base, Albany, GA

Authorized Source of Supply: Wiregrass Rehabilitation Center, Inc., Dothan, AL

Contracting Activity: DEPT OF THE NAVY, COMMANDER

Service Type: Janitorial/Custodial

Mandatory for: Department of Veterans Affairs, National Acquisition Center, Building 37, Hines, IL

Authorized Source of Supply: Jewish Child and Family Services, Chicago, IL

Contracting Activity: VETERANS AFFAIRS, DEPARTMENT OF, DEPARTMENT OF VETERANS AFFAIRS

Service Type: Janitorial/Custodial

Mandatory for: Department of Veterans Affairs, Hines Information and Technology Center, Hines, IL

Authorized Source of Supply: Jewish Child and Family Services, Chicago, IL

Contracting Activity: VETERANS AFFAIRS, DEPARTMENT OF, ACQUISITION OPERATION SERVICE (049A3)

Service Type: Supply and Warehousing Service

Mandatory for: Department of Veterans Affairs, Service Distribution Center, Building 37, Hines, IL

Authorized Source of Supply: Jewish Child and Family Services, Chicago, IL

Contracting Activity: VETERANS AFFAIRS, DEPARTMENT OF, DEPARTMENT OF VETERANS AFFAIRS

Service Type: Shelf Stocking, Custodial & Warehousing

Mandatory for: Defense Commissary Agency, Bangor Naval Base Kitsap Commissary, Silverdale, WA

Authorized Source of Supply: Peninsula Services, Bremerton, WA

Contracting Activity: DEFENSE COMMISSARY AGENCY (DECA), DEFENSE COMMISSARY AGENCY

Michael R. Jurkowski,
Director, Business Operations.

[FR Doc. 2025-09815 Filed 5-29-25; 8:45 am]

BILLING CODE 6353-01-P